DEPARTMENT OF ENERGY

Federal Energy Regulatory Commission

Combined Notice of Filings #1

Take notice that the Commission received the following exempt wholesale generator filings:

Docket Numbers: EG25-291-000.

Applicants: SMT Energy LLC.

Description: SMT Energy LLC submits Notice of Self-Certification of Exempt Wholesale Generator Status.

Filed Date: 4/17/25.

Accession Number: 20250417-5082.

Comment Date: 5 p.m. ET 5/8/25.

Take notice that the Commission received the following electric rate filings:

Docket Numbers: ER25-1977-000.

Applicants: Tillman Solar Park LLC.

Description: Initial Rate Filing: Shared Facilities Agreement and Request for Waivers and Blanket Authorization to be effective 6/16/2025.

Filed Date: 4/16/25.

Accession Number: 20250416-5180.

Comment Date: 5 p.m. ET 5/7/25.

Docket Numbers: ER25-1978-000.

Applicants: Pacific Gas and Electric Company.

Description: Compliance filing: TO: TID/MID Black Box Settlement in Docket No. EL15-55 to be effective N/A.

Filed Date: 4/17/25.

Accession Number: 20250417-5000.

Comment Date: 5 p.m. ET 5/8/25.

Docket Numbers: ER25-1979-000.

Applicants: Michigan Electric Transmission Company, LLC.

Description: Notice of Cancellation of a portion of the Coordinated Operating Agreement under Rate Schedule 9 of Michigan Electric Transmission Company, LLC.

Filed Date: 4/16/25.

Accession Number: 20250416-5199.

Comment Date: 5 p.m. ET 5/7/25.

Docket Numbers: ER25-1980-000.

Applicants: Clinton Solar, LLC.

Description: § 205(d) Rate Filing: Application for Market Based Rate to be effective 5/30/2025.

Filed Date: 4/17/25.

Accession Number: 20250417-5032.

Comment Date: 5 p.m. ET 5/8/25.

Docket Numbers: ER25-1981-000.

Applicants: Deseret Generation & Transmission Co-operative, Inc.

Description: Compliance filing: OATT Order No. 904 Compliance to be effective 4/18/2025.

Filed Date: 4/17/25.

Accession Number: 20250417-5053.

Comment Date: 5 p.m. ET 5/8/25.

Docket Numbers: ER25-1982-000.

Applicants: PacifiCorp.

Description: § 205(d) Rate Filing: Surplus Large Gen Interconnection Agrmt_Rev 1 (SA No. 1110) to be effective 4/18/2025.

Filed Date: 4/17/25.

Accession Number: 20250417-5055.

Comment Date: 5 p.m. ET 5/8/25.

Docket Numbers: ER25-1983-000.

Applicants: PacifiCorp.

Description: § 205(d) Rate Filing: Surplus Large Gen Interconnection Agrmt_Rev 1 (SA No. 1112) to be effective 4/18/2025.

Filed Date: 4/17/25.

Accession Number: 20250417-5059.

Comment Date: 5 p.m. ET 5/8/25.

Docket Numbers: ER25-1984-000.

Applicants: Mammoth Central LLC.

Description: Initial Rate Filing: Baseline new SFA to be effective 6/17/2025.

Filed Date: 4/17/25.

Accession Number: 20250417-5113.

Comment Date: 5 p.m. ET 5/8/25.

Docket Numbers: ER25-1985-000.

Applicants: American Electric Power Service Corporation.

Description: § 205(d) Rate Filing: AEP submits revised ILDSA—SA No. 1420 ATT 1 to be effective 7/1/2025.

Filed Date: 4/17/25.

Accession Number: 20250417-5119.

Comment Date: 5 p.m. ET 5/8/25.

Docket Numbers: ER25-1986-000.

Applicants: Midcontinent Independent System Operator, Inc., Ameren Illinois Company.

Description: § 205(d) Rate Filing: Ameren Illinois Company submits tariff filing per 35.13(a)(2)(iii: 2025-04-17_SA 4471 Ameren Illinois-Village of Ladd WCA to be effective 6/17/2025.

Filed Date: 4/17/25.

Accession Number: 20250417-5169.

Comment Date: 5 p.m. ET 5/8/25.

Docket Numbers: ER25-1987-000.

Applicants: Entergy Arkansas, LLC.

Description: § 205(d) Rate Filing: EAL-SWPA Marketing Agreement to be effective 6/1/2025.

Filed Date: 4/17/25.

Accession Number: 20250417-5172.

Comment Date: 5 p.m. ET 5/8/25.

Docket Numbers: ER25-1988-000.

Applicants: Mammoth Central II LLC.

Description: Initial Rate Filing: Baseline new COC to be effective 6/17/2025.

Filed Date: 4/17/25.

Accession Number: 20250417-5176.

Comment Date: 5 p.m. ET 5/8/25.

Take notice that the Commission received the following qualifying facility filings:

Docket Numbers: QF25-470-000; QF25-471-000.

Applicants: Novel Marthaler Solar LLC, Novel Herickhoff Solar LLC.

Description: Refund Report of Novel Herickhoff Solar LLC, et al.

Filed Date: 4/16/25.

Accession Number: 20250416-5200.

Comment Date: 5 p.m. ET 5/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 17, 2025.
Carlos D. Clay,
Deputy Secretary.

[FR Doc. 2025-06942 Filed 4-22-25; 8:45 am]

BILLING CODE 6717-01-P